DEPARTMENT OF TRANSPORTATION

National Highway Traffic Safety Administration

[Docket No. NHTSA-2022-0028]

Agency Information Collection Activities; Notice and Request for Comment; Evaluation of the Model Minimum Uniform Crash Criteria Program

AGENCY: National Highway Traffic Safety Administration (NHTSA), Department of Transportation (DOT).

ACTION: Notice and request for comments on a request for approval of a new information collection.

SUMMARY: The National Highway Traffic Safety Administration (NHTSA) invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on an evaluation of the Model Minimum Uniform Crash Criteria (MMUCC) program.

DATES: Comments must be submitted on or before May 31, 2022.

ADDRESSES: You may submit comments identified by the Docket No. NHTSA-2022-0028 through any of the following methods:

• Electronic Submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact John Siegler, National Center for Statistics and Analysis (NSA-221), (202) 366-1268, National Highway Traffic Safety Administration, W55-233, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Evaluation of the Model Minimum Uniform Crash Criteria (MMUCC) Program.

OMB Control Number: NEW.

Form Number(s): NHTSA Form 1635 and NHTSA Form 1636.

Type of Request: New information collection.

Type of Review Requested: Regular.

Requested Expiration Date of Approval: 3 years from date of approval.

Summary of the Collection of Information: NHTSA is authorized by 49 U.S.C. 30182 and 23 U.S.C. 403 to collect data on motor vehicle traffic crashes to aid in the identification of issues and the development, implementation, and evaluation of motor vehicle and highway safety countermeasures

The MMUCC guideline identifies a minimum set of motor vehicle crash data variables and their attributes that States should consider collecting and including in their State crash data systems. MMUCC is a voluntary, minimum set of standardized data variables for describing motor vehicle traffic crashes. MMUCC promotes data uniformity within the highway safety community by creating a foundation for State crash data systems to provide the information necessary to improve highway safety. The crash data is used to identify issues, determine highway safety messages and strategic communication campaigns, optimize the location of selective law enforcement, inform decision-makers of needed highway safety legislation, and evaluate the impact of highway safety countermeasures. NHTSA developed MMUCC with the Governors Highway Safety Association in 1998 and have regularly updated the guidelines together, with the most recent fifth edition published in 2017.

NHTSA is seeking approval to conduct a national survey of active law enforcement officers. The purpose of the survey would be to solicit officers' judgement about collecting the crash data variables described in the current fifth edition of the Model Minimum Uniform Crash Criteria (MMUCC) Guideline (DOT HS 812 433, July 2017) as well as to test officers' abilities to accurately collect both existing MMUCC variables and proposed new or modified variables.

First, NHTSA will hire a contractor to contact police chiefs within the 397 sampling units used by NHTSA's Crash Reporting Sampling System (CRSS) to request the nomination of four law enforcement officers in their department who collect crash data to participate in the study. Specifically, NHTSA is requesting the police chiefs to provide personally identifiable information (PII) about the nominated law enforcement officers, including names and contact information (email, phone, and address) so that NHTSA can contact these officers to administer a survey on MMUCC data elements and arrange payment of an honorarium.

Second, NHTSA will send the officers who were nominated to participate in this study a unique link to one of two online surveys, which will examine the feasibility of collecting the MMUCC crash data. The surveys will collect limited information about each respondent including the State where they work as a law enforcement officer, the extent of their training for collecting crash data, and the number of years the respondents have completed crash reports. The surveys will collect information about respondents' beliefs and abilities to accurately collect crash data according to the MMUCC guidelines. The surveys will ask respondents to rate the difficulty of accurately collecting specific MMUCC data elements, assess respondents ability to collect information using MMUCC data elements for fictitious crash scenarios, and ask for suggestions on how MMUCC data elements can be improved.

Description of the Need for the Information and Proposed Use of the Information: States' adoption of MMUCC variables has been slow and inconsistent. Currently the variables collected on State's police crash reports alignment to MMUCC variables is less than 50 percent, NHTSA intends to conduct this information collection to learn why the alignment rate is so low. Before embarking on the sixth edition of MMUCC, NHTSA seeks to assess the feasibility of collecting the data variables in MMUCC and to identify problematic data variables and other factors that impede States from adopting the MMUCC variables.

To assess the ability of law enforcement officers to accurately collect MMUCC crash data variables, NHTSA will conduct an electronic survey of a national sample of law enforcement officers who complete crash reports. The survey will ask respondents to review fictitious crash scenarios and collect the MMUCC data variables. In addition, law enforcement officers will be asked about their confidence to accurately collect MMUCC data variables and to provide suggestions for improving each data variable as needed. Examples of the types of crash data variables in MMUCC that law enforcement will be asked about include Direction of Travel, Sequence of Events, Type of Intersection, and Restraint System Use. The information collected will allow NHTSA to identify data variables in MMUCC that officers might interpret differently. The results will inform deliberations about the content of the next edition of MMUCC. A summary of this research will be published as an appendix to the next edition of MMUCC.

Affected Public: Law enforcement.

Estimated Number of Respondents: NHTSA will send a short letter to 397 chief police officers to request they identify four police officers within their department to participate in the MMUCC survey. The total sample is 1,985 (397 police chiefs + 1,588 police officers).

Frequency: NHTSA plans to conduct this data collection once to prepare for the sixth edition of MMUCC.

Estimated Total Annual Burden Hours: To calculate the hour burden and labor cost associated with submitting the Evaluation of the Model Minimum Uniform Crash Criteria, NHTSA looked at wage estimates for Front Line Supervisors of Police and Detectives and Police and Sheriff's Patrol Officers who complete crash forms. NHTSA estimates the total opportunity costs associated with these burden hours by looking at the average wage for (1) Front line Supervisors of Police and Detectives and (2) Police and Sheriff's Patrol Officers. The Bureau of Labor Statistics (BLS) estimates that the average hourly wage for Front line Supervisors of Police and Detectives (BLS Occupation Code 33-1012) ¹ is $46.72 and Police and Sheriff's Patrol Officers (BLS Occupation code 33-3051) is $33.66.² The Bureau of Labor Statistics estimates that wages represent 62.2 percent of total compensation for State and local government workers, on average.³ Therefore, NHTSA estimates the hourly labor costs to be $75.11($46.72/.622) for Supervisors of Police and Sheriff's Patrol Officers and $54.12 ($33.66/622) for Police and Sheriff's Patrol Officers. NHTSA estimates that it will take about 10 minutes (0.17 of an hour) for the police chiefs to nominate four law enforcement officers who investigate motor vehicle crashes, resulting in 67.49 (0.17 × 397) hours for 397 police chiefs. From pilot testing the survey instruments with six former law enforcement officers who work at NHTSA, the agency estimates that it will take the law enforcement officers one hour to complete the survey. Therefore, 1,588 hours for 1,588 law enforcement officers. NHTSA estimates the total hourly compensation cost for police chiefs to be $5,069.17 ($75.11 × 67.49 hours). NHTSA estimates the total hourly compensation cost for law enforcement officers to be $85,942.56 ($54.12 × 1,588 hours). Table 1 provides a summary of the estimated burden hours and labor costs associated with those respondents.

¹ See May 2020 National Occupational Employment and Wage Estimates. National Estimates for First-Line Supervisors of Police and Detectives. Available at https://www.bls.gov/oes/current/oes331012.htm (accessed July 1, 2021).

² See May 2020 National Occupational Employment and Wage Estimates. National Estimates for Police and Sheriff's Patrol Officers. Available at https://www.bls.gov/oes/current/oes333051.htm (accessed July 1, 2021).

³ Employer Costs for Employee Compensation-March 2020, https://www.bls.gov/news.release/archives/ecec_06182020.pdf. Accessed 12/21/2021.

Table 1—Burden Estimates
| Responses | Estimated burden per response | Average hourly labor cost | Labor cost per response | Total burden hours | Total labor costs
Police Chiefs nomination of law enforcement officer for study participation | 397 | 0.17 hour (10 minutes) | $75.11 | $12.76 | 67.49 | $5,069.17
Survey of Law Enforcement Officers | 1,588 | 1 hour | 54.12 | 54.12 | 1,588.00 | 85,942.56
Total | 1,985 |  |  |  | 1,655.49 | 91,011.73

Estimated Total Annual Burden Cost: This collection is not expected to result in any increase in costs to respondents other than the opportunity cost associated with the burden hours. Both the police chiefs who will nominate respondents and the law enforcement officers completing the survey on MMUCC possess the information needed to complete each survey.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Chou-Lin Chen,
Associate Administrator for the National Center for Statistics and Analysis.

[FR Doc. 2022-06496 Filed 3-28-22; 8:45 am]

BILLING CODE 4910-59-P